DEPARTMENT OF AGRICULTURE

Cooperative State Research, Education, and Extension Service

Notice of Intent To Revise a Currently Approved Information Collection

AGENCY: Cooperative State Research, Education, and Extension Service, USDA.

ACTION: Notice and request for comments.

SUMMARY: In accordance with the Paperwork Reduction Act of 1995 and Office of Management and Budget (OMB) regulations at 5 CFR part 1320, this notice announces the Cooperative State Research, Education, and Extension Service's intention to revise a currently approved information collection entitled, “Cooperative State Research, Education, and Extension Service Application Kit for Research and Extension Programs”.

DATES: Written comments on this notice must be received by January 9, 2009, to be assured of consideration. Comments received after that date will be considered to the extent practicable.

ADDRESSES: Written comments concerning this notice may be sent to Jason Hitchcock, USDA/CSREES/ISTM, STOP 2216, 1400 Independence Avenue, SW., Washington, DC 20250-2216 or sent electronically to: jhitchcock@csrees.usda.gov.

FOR FURTHER INFORMATION CONTACT: To request a copy of the information collection, contact Jason Hitchcock, e-mail: jhitchcock@csrees.usda.gov.

SUPPLEMENTARY INFORMATION: Title: Cooperative State Research, Education, and Extension Service Application Kit for Research and Extension Programs.

OMB Number: 0524-0039.

Expiration Date of Current Approval: April 30, 2009.

Type of Request: Revise a currently approved information collection.

Abstract: The Cooperative State Research, Education, and Extension Service (CSREES) sponsors ongoing agricultural research, extension, and education programs under which competitive, formula, and special awards of a high-priority nature are made. Before awards can be made, certain information is required from applicants as part of an application process.

The nature of the competitive, peer-reviewed process makes it important that information from applicants be available in a standardized format to ensure equitable treatment. Each year, request for applications are issued for various research, education, and extension areas targeted for support. Applicants submit applications for these targeted areas following formats outlined in the application guidelines accompanying each program's solicitation. CSREES awards grants after evaluating these applications, using peer review panels and other merit review processes. The forms and narrative information are mainly used for application evaluation and administration purposes. While some of the information is used to respond to inquiries from Congress and other government agencies, the forms are not designed to be statistical surveys.

CSREES requires submission of grant applications electronically through the Grants.gov storefront. The application processes through Grants.gov leverage several standard forms. In addition to Grants.gov's standards forms, CSREES must collect some additional information for the proper evaluation and processing of applications. These forms include the following:

Supplemental Information Form—This form is used in all grant application packages, and collects the program name and program code to which the applicant is applying, additional applicant type information, Department of Health and Human Services Payment Management System account information, key words, and the conflict of interest information as an attached file.

Application Type Form—This form is used principally by the Agriculture and Food Research Initiative Competitive Grants Program to collect the specific type of application being submitted. This form is being revised to change the applicant type names and some business rules on the form.

Application Modification Form—This form is used to indicate the forms or narrative portions of an application that an applicant has changed or corrected from a previously submitted application.

Form CSREES-2008, Assurance Statement(s)—This form is used in formula grant programs and provides required assurances of compliance with regulations involving the protection of human subjects, animal welfare, and recombinant DNA research.

Form CSREES-2010, Fellowships/Scholarships Entry/Annual Update/Exit Form—This form will apply only to CSREES award recipients to document fellowships and scholarships, pertinent demographic data on the fellows/scholars, the progress of the fellows/scholars under the program, and performance outcomes of the student beneficiaries.

Respondents: Non-profit institutions, State, local, or Tribal governments, and a limited number of for-profit institutions and individuals.

Estimated Number of Respondents by form:

Supplemental Information: 5,050.

Application Type: 2,150.

Application Modification: 0.

Form CSREES-2008, Assurance Statement(s): 1,850.

CSREES-2010, Fellowships/Scholarships Entry/Exit: 150.

Summary of USDA/1890 Cooperation: 170.

The individual form burden is as follows (calculated based on a survey of grant applicants conducted by CSREES):

Supplemental Information: 2 hours.

Application Type: 15 minutes.

Application Modification: 5 minutes.

Form CSREES-2008, Assurance Statement(s): 30 minutes CSREES-2010, Fellowships/Scholarships Entry/Annual.

Update/Exit: 3 hours.

Summary of USDA/1890 Cooperation: 50 minutes.

Estimated Total Annual Burden on Respondents: The annual total burden on the public for all forms is estimated to be 12,160 hours.

Frequency of Responses: Annually.

Comments: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments should be sent to the address stated in the preamble.

All responses to this notice will be summarized and included in the request for OMB approval. All comments also will become a matter of public record.

Done at Washington, DC, this 29th day of Oct, 2008.
Gale Buchanan,
Undersecretary, Research, Education, and Economics.

[FR Doc. E8-26354 Filed 11-4-08; 8:45 am]

BILLING CODE 3410-22-P